DEPARTMENT OF THE INTERIOR

Bureau of Land Management

[CO-154-1610-DQ-GGCA]

Notice of Availability of the Proposed Resource Management Plan and Final Environmental Impact Statement, Gunnison Gorge National Conservation Area, CO

AGENCY: Bureau of Land Management, Interior.

ACTION: Notice of availability of the Proposed Resource Management Plan and Final Environmental Impact Statement (PRMP/FEIS), Gunnison Gorge National Conservation Area (NCA), Colorado.

SUMMARY: In accordance with Section 202 of the National Environmental Policy Act (NEPA) of 1969, and under authority of the Federal Land Policy and Management Act of 1976 (FLPMA), the BLM has prepared a PRMP/FEIS for the Gunnison Gorge National Conservation Area. The planning area lies in Montrose and Delta Counties, Colorado. The PRMP/FEIS provides direction and guidance for the management of public lands and resources of the NCA, as well as monitoring and evaluation requirements. The PRMP/FEIS would also amend the Uncompahgre RMP (189) for the affected lands in the planning area. Some decisions in the existing planning and management documents may be carried forward into the new NCA Resource Management Plan (RMP). Once approved in a Record of Decision (ROD), the RMP for the NCA would supercede all existing management plans for the public lands within the NCA. Tetra Tech, Inc., an environmental consulting firm in Boulder, Colorado, is assisting the BLM in the preparation of these documents and in the planning process for the NCA.

DATES: BLM Planning Regulations (43 CFR 1610.5-2) state that any person may protest the proposed land use planning decisions in the PRMP/FEIS, if he/she participated in the planning process, and has an interest that may be adversely affected. The protest must be postmarked within 30 days of the date that the Environmental Protection Agency publishes this notice in the Federal Register. Instructions for filing a protest are described in the Dear Reader letter in the PRMP/FEIS and are also included in the SUPPLEMENTARY INFORMATION section of this notice. For Further Information, and/or to have your name added to our mailing list, contact Bill Bottomly (970) 240-5337, Planning and Environmental Coordinator (bill_bottomly@co.blm.gov), or Karen Tucker at (970) 240-5309 (karen_tucker@co.blm.gov), Gunnison Gorge NCA Manager. The address for both individuals is: Bureau of Land Management, Gunnison Gorge National Conservation Area, 2465 South Townsend Avenue, Montrose, CO 81401. Do not send protests to these individuals—see SUPPLEMENTARY INFORMATION below for instructions on submitting a protest.

Persons who are not able to inspect the PRMP/FEIS either on-line or at the information repository locations may request one of a limited number of printed or CD copies. Requests for copies of the PRMP/FEIS should be directed to Mr. Bottomly, and should clearly state that the request is for a printed copy or CD of the Gunnison Gorge NCA PRMP/FEIS, and include the name, mailing address and phone number of the requesting party.

The BLM has sent copies of the PRMP/FEIS to affected Federal, State, and Local Government agencies and to interested parties. The planning documents and direct supporting record for the analysis for the PRMP/FEIS will be available for inspection at the offices of Tetra Tech, Inc. in Boulder or at the NCA offices during nomral working hours. Copies of the PRMP/FEIS are also available for public inspection at the Bureau of Land Management, Gunnison Gorge NCA office, 2465 South Townsend Avenue, Montrose, Colorado. Interested persons may also review the PRMP/FEIS on the Internet at http://www.gunnison-gorge-eis.com. Copies will also be available at the following local libraries.

• Montrose Public Library, 320 South 2nd Street, Montrose, CO 81401.

• Delta Public Library, 211 West 6th Street, Delta, CO 81416.

• Crawford Public Library, 425 Highway 92, Crawford, CO 81415.

• Hotchkiss Public Library, 1st and Main Street, Hotchkiss, CO 81419.

SUPPLEMENTARY INFORMATION: The Black Canyon of the Gunnison National park and Gunnison Gorge National Conservation Act (Act) of 1999 designated the Gunnison Gorge NCA and Wilderness the 1999 designated NCA contains 55,745 acres of public lands, including the 17,784-acre Gunnison Gorge Wilderness. The boundary of the 1999 NCA also included 2,031 acres of private lands. Then on November 17, 2003, the President of the United States signed The Black Canyon of the Gunnison Boundary Revision Act of 2003 (S. 677) which expanded the boundary of the NCA. This act added approximately 7,108 acres of public land and 191 acres of private land within and adjacent to the NCA. The private lands would not be affected as a result of the revision in the boundary, other than, subject to valid existing rights, all Federal mineral estate lands underneath private surface lands would be withdrawn from all forms of entry, appropriation or disposal under the public land laws; from location, entry, and patent under the mining laws; and from disposition under all laws relating to mineral and geothermal leasing. The BLM's Uncompahgre Field Office (UFO) in Montrose, Colorado, manages these lands. The Act directs the BLM to develop a comprehensive plan for the long-range protection and management of the Conservation Area.

The planning area that the PRMP/FEIS addresses consists of lands both within and outside the NCA boundary. The planning area is larger than the NCA boundary so as to consider and provide for consistent management on adjacent and nearby public lands. There are 62,844 acres of BLM-managed lands within the 2003 amended NCA boundary and 2,225 acres of private land. Outside the 2003 amended NCA boundary, the planning area contains 32,936 additional acres of other BLM managed lands, 666 acres of state-managed lands at Sweitzer Lake State Park, and 97,519 acres of private land. The proposed decisions of the PRMP/FEIS would only apply to federal lands, though the planning area boundary contains federal, state, and private lands.

The Draft Resource Management Plan/Draft EIS (DRMP/DEIS), published on March 14, 2003, addressed four alternatives: Alternative A (Continuation of Current Management); Alternative B (Conservation), Alternative C (Mixed use), and Alternative D (Agency Preferred Alternative). The PRMP/FEIS still includes Alternative D as the Agency Preferred Alternative. However, the PRMP/FEIS reflects the comments that the public and BLM reviewers made on the DRMP/DEIS.

When formulating alternatives, the BLM worked with planning participants to address the following planning themes:

1. Preservation of natural and wilderness resources of the NCA and Wilderness, promoting conservation of fish and wildlife, including special status species;

2. Management of human activities and uses;

3. Integration of NCA management with other agency and community plans;

4. Determination of facilities and infrastructure needed to provide visitor services and administration of the NCA;

5. Management of transportation and access; and,

6. Consideration of private property in the planning area.

Some of the issues within the planning themes above that have been identified during the scoping for the NCA planning process include: motorized and non-motorized vehicle use, livestock grazing management, allocation of commercial and private river and upland recreation use, river-related resource management, water quantity and quality, land health, riparian and aquatic habitat protection, threatened and endangered and special status species and critical habitat protection, wildlife habitat quality and fragmentation, declining biodiversity, reintroduction of native species, and noxious weed control. Other factors considered include recreation and resource use, protection of wilderness, riparian, and scenic values, the level and intensity of dispersed and developed recreation management, cultural resource protection and interpretation, management of the mineral estate on adjacent areas not withdrawn from mineral entry and location, public access, transportation and utility corridors, and woodland product harvest.

The PRMP/FEIS recommends the retention of an existing Area of Critical Environmental Concern (ACEC) and the designation of new ACECs. The effects of retaining and/or recommending designations of ACECs regarding restrictions on surface disturbing activities will occur only to the degree necessary to prevent damage and disturbance to the features and resources for which the area was designated. ACEC recommendations in the PRMP/FEIS are as follows: (1) Retain the existing designation of the 161-acre Fairview Research Natural Area/Area of Critical Environmental Concern (RNA/ACEC); (2) Establish the Gunnison Sage Grouse Important Bird Area/ACEC (IBA/ACEC—16,531 acres outside the NCA boundary and 5,669 acres inside the NCA boundary for 22,200 acres total); and, (3) Establish the Native Plant Community ACEC/Outstanding Natural Area (3,785 acres inside NCA.

BLM implemented an extensive public collaboration program for this effort. The agency distributed newsletters, hosted public open houses, an facilitated a public collaboration focus group. The BLM also collaborated with parties after the public comment period on the DRMP/EIS to help resolve issues dealing with wild and scenic river recommendations, rights-of-way utility corridors, and off-highway vehicle use. The resource management planning process includes an opportunity for public, administrative review of proposed land use plan decisions during a 30-day protest period of the PRMP/FEIS. Any person who participated in the planning process for this PRMP/FEIS, and has an interest which is or may be adversely affected, may protect approval of this PRMP/FEIS and land use plan decisions contained within it (See 43 CFR 1610.5-2) during this 30-day period. Only those persons or organizations who participated in the planning process leading to the PRMP/FEIS may protest. A protesting party may raise only those issues submitted for the record during the planning process leading up to the publication of this PRMP/FEIS. These issues may have been raised by the protesting party or others. New issues may not be brought into the record at the protest stage. The 30-day period for filing a plan protest begins when the Environmental Protection Agency publishes in the Federal Register its Notice of Availability of the final environmental impact statement containing the PRMP/FEIS. There is no provision for any extension of time. To be considered “timely,” your protest, along with all attachments, must be postmarked no later than the last day of the protest period. A letter of protest must be filed in accordance with the planning regulations, 43 CFR 1610.5-2(a)(1). Protests must be in writing. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov. If sent by regular mail, send to: Director (210), Attention: Brenda Williams, P.O. Box 66538, Washington DC 20035. For overnight (i.e., Federal Express) mailing, send protests to: Director (210), Attention: Brenda Williams, 1620 L Street, NW., Suite 1075, Washington, DC 20036. In order to be considered complete, your protest must contain, at a minimum, the following information:

1. the name, mailing address, telephone number, and interest of the person filing the protest.

2. A statement of the issue or issues being protested

3. A statement of the part or parts of the PRMP/FEIS being protested. To the extent possible, this should be done by reference to specific pages, paragraphs, sections, tables, maps, etc., included in the document.

4. A copy of all documents addressing the issue or issues that you submitted during the planning process, or a reference to the date the issue or issues were discussed by you for the record.

5. A concise statement explaining why the Colorado BLM State Director's proposed decision is believed to be incorrect. This is a critical part of your protest. Take care to document relevant facts.

As much as possible, reference or cite the planning documents, environmental analysis documents, or available planning records (i.e., meeting minutes or summaries, correspondence, etc.) A protest that merely expresses disagreement with the Colorado BLM State Director's proposed decision, without any data, will not provide us with the benefit of your information and insight. In this case, the Director's review will be based on the existing analysis and supporting data. At the end of the 30-day protest period and after the Governor's consistency review, the PRMP/FEIS, excluding any portions under protest, will become final. Approval will be withheld on any portion of the PRMP/FEIS under protest until final action has been completed on such protest.

Freedom of Information Act Considerations/Confidentiality

Public comments submitted for this planning review, including names and street addresses of respondents, will be available for public review at the Gunnison Gorge National Conservation Area, Uncompahgre Field Office, in Montrose, Colorado, during regular business hours (7:45 a.m. to 4:30 p.m.), Monday through Friday, except holidays. Comments, including names and addresses of respondents, will be retained on file in the same office as part of the public record for this planning effort. Individual respondents may request confidentiality. If you wish to withhold your name or address from public inspection or from disclosure under the Freedom of Information Act, you must state this prominently at the beginning of your written comment. Such requests will be honored to the extent allowed by law. All submissions from organizations or businesses, and from individuals identifying themselves as representatives or officials of organizations or businesses, will be made available for public inspection in their entirety.

Dated: January 7, 2004.
Dave Kauffman,
Acting Field Manager, Uncompahgre Field Office.

[FR Doc. 04-2910 Filed 2-10-04; 8:45 am]

BILLING CODE 4310-JB-M